DEPARTMENT OF ENERGY

Federal Energy Regulatory Commission

[Docket No. EG05-35-000, et al.]

SeaWest WindPower, Inc., et al.; Electric Rate and Corporate Filings

March 9, 2005.

The following filings have been made with the Commission. The filings are listed in ascending order within each docket classification.

1. SeaWest WindPower, Inc.

[Docket No. EG05-35-000]

On March 4, 2005, SeaWest WindPower, Inc. (SeaWest WindPower), located at 1455 Frazee Road, Ninth Floor, San Diego, California, 92108, filed with the Federal Energy Regulatory Commission an amended application for determination of exempt wholesale generator (EWG) status pursuant to part 365 of the Commission's regulations.

SeaWest WindPower states it will be engaged directly and exclusively in the business of operating certain eligible facilities and selling electric energy exclusively at wholesale within the meaning of section 32(a) of PUHCA. SeaWest WindPower requests that the Commission determine that it is an EWG as it is currently owned and after consummation of the sale of 100 percent of the capital stock of its parent, SeaWest Holdings, Inc., to a wholly-owned subsidiary of the AES Corporation, AES Western Wind, LLC.

SeaWest WindPower states that a copy of the amended application has been served on the U.S. Securities and Exchange Commission, the California Public Utilities Commission, the Indiana Utility Regulatory Commission, the Oregon Public Utility Commission, and the Wyoming Public Service Commission.

Comment Date: 5 p.m. eastern time on March 22, 2005.

2. California Independent System Operator Corporation

[Docket Nos. ER98-997-006, ER98-1309-005, ER02-2297-005, and ER02-2298-005]

Take notice that on March 2, 2005, the California Independent System Operator Corporation (ISO) submitted a filing in compliance with the Commission's Order issued February 11, 2005, 110 FERC ¶ 61,122.

The ISO states that this filing has been served on all parties on the official service lists for the above-captioned dockets. In addition, the ISO states that the filing has been posted on the ISO Home Page.

Comment Date: 5 p.m. eastern time on March 23, 2005.

3. FPL Energy Seabrook, LLC

[Docket No. ER02-1838-004]

Take notice that on February 25, 2005, FPL Energy Seabrook, LLC submitted a request to increase prior authorization to sell energy, capacity and ancillary services at market-based rates.

FPL Energy Seabrook LLC states that copies of the filing were served upon the Florida Public Service Commission.

Comment Date: 5 p.m. eastern time on March 18, 2005.

4. PJM Interconnection, L.L.C.

[Docket No. ER04-608-003]

Take notice that on February 28, 2005, PJM Interconnection, L.L.C. (PJM) submitted for filing an updated status report of PJM's stakeholder process regarding expansion of PJM's behind the meter generation program to include generation associated with municipals' and cooperatives' electric distribution systems, originally filed on January 3, 2005, in Docket No. ER04-608-002.

Comment Date: 5 p.m. eastern time on March 21, 2005.

5. Upper Peninsula Power Company

[Docket No. ER05-89-002]

Take notice that on March 2, 2005, Upper Peninsula Power Company (UPPCO) tendered for filing a Supplement to market-based rate application in preparation for MISO Day-2 Market Operations FILED ON January 4, 2005 in Docket No. ER05-89-001.

UPPCO states that copies of the filing were served upon the official service list, PJM, MISO and the Michigan Public Service Commission.

Comment Date: 5 p.m. eastern time on March 14, 2005.

6. Southwest Power Pool, Inc.

[Docket No. ER05-490-001]

Take notice that on March 7, 2005, Southwest Power Pool, Inc. (SPP) submitted for filing an amendment to an executed service agreement for Firm Point-To-Point Transmission Service with Southwestern Public Service Company (Southwestern) previously filed with the Commission in Docket No. ER05-490-000 on January 26, 2005. SPP seeks an effective date of January 1, 2005, for the service agreement.

SPP states that Southwestern was served with a copy of this filing.

Comment Date: 5 p.m. eastern time on March 16, 2005.

7. New England Power Company

[Docket No. ER05-530-001]

Take notice that on March 2, 2005, New England Power Company (NEP) tendered for filing an amendment to its January 31, 2005, filing in Docket No. ER05-530-000. NEP states that the amendment consists of Substitute Service Agreements for Network Integration Transmission Service under NEP's FERC Electric Tariff, Second Revised Volume No. 9. NEP reiterates its request for an effective data of January 1, 2005.

NEP states that copies of this filing have been served on Dominion Energy and regulators in the States of Massachusetts and Rhode Island.

Comment Date: 5 p.m. eastern time on March 23, 2005.

8. Public Service Company of New Mexico

[Docket No. ER05-664-000]

Take notice that on March 2, 2005, the Public Service Company of New Mexico (PNM) submitted for filing an interim invoicing agreement with respect to invoicing for coal deliveries from San Juan Coal Company among PNM, Tucson Electric Power Company (TEP), and the other owners of interests in the San Juan Generating Station covering the period from January 1, 2005, through December 31, 2005. PNM states that the interim invoicing agreement is an appendix to the San Juan Project participating agreement (PPA), and effectively modifies the PPA for that same period.

On February 8, 2005, Tucson Electric Power Company filed a certificate of concurrence in connection with the 2005 interim invoicing agreement for the San Juan Generating Station. PNM requests an effective date of January 1, 2005.

PNM states that copies of the filing have been sent to the New Mexico Public Regulation Commission, the New Mexico Attorney General, TEP and each of the owners of interest in the San Juan Generating Station.

Comment Date: 5 p.m. eastern time on March 23, 2005.

9. Barrick Goldstrike Mines Inc.

[Docket No. ER05-665-000]

Take notice that on March 2, 2005, Barrick Goldstrike Mines Inc. submitted an application, pursuant to section 205 of the Federal Power Act, for an order accepting its proposed market-based rate tariff and granting certain blanket authorizations and waivers of the Commission's regulations.

Comment Date: 5 p.m. eastern time on March 23, 2005.

10. Midwest Independent Transmission System Operator, Inc.

[Docket No. ER05-667-000]

Take notice that on March 2, 2005, the Midwest Independent Transmission System Operator, Inc. (Midwest ISO) submitted an unexecuted Large Generator Interconnection Agreement among Montana-Dakota Utilities Co., Dakota Wind Harvest, LLC and the Midwest ISO.

Midwest ISO states that a copy of this filing was served on the parties to this Interconnection Agreement.

Comment Date: 5 p.m. eastern time on March 23, 2005.

11. New England Power Company

[Docket No. ER05-668-000]

Take notice that on March 2, 2005, New England Power Company (NEP) submitted for filing an Interconnection Agreement between NEP and Bear Swamp Power Co. LLC (Bear Swamp Power) designated as a service agreement under ISO New England Inc.'s transmission, markets and services tariff, ISO New England Inc., FERC Electric Tariff No. 3. NEP states that the Agreement concerns the interconnection of the Bear Swamp Project, a hydro-electric generating unit, to NEP's transmission system.

NEP states that copies of this filing have been served on Bear Swamp Power, ISO New England, Inc. and regulators in the Commonwealth of Massachusetts.

Comment Date: 5 p.m. eastern time on March 23, 2005.

12. New England Power Company

[Docket No. ER05-669-000]

Take notice that on March 2, 2005, New England Power Company (NEP) submitted for filing an interconnection agreement between NEP and Bear Swamp Power Co. LLC (Bear Swamp Power) under ISO New England Inc.'s transmission, markets and services tariff, ISO New England Inc., FERC Electric Tariff No. 3. NEP states that the Agreement concerns the interconnection of the Fife Brook Development, a hydro-electric generating unit, to NEP's transmission system.

NEP states that copies of this filing have been served on Bear Swamp Power, ISO New England, Inc. and regulators in the Commonwealth of Massachusetts.

Comment Date: 5 p.m. eastern time on March 23, 2005.

13. Vermont Electric Cooperative, Inc.

[Docket No. ER05-670-000]

Take notice that on March 2, 2005, the Vermont Electric Cooperative, Inc. (VEC) tendered for filing its second annual formula rate update to its open access transmission tariff (OATT), FERC Electric Tariff, Original Volume No. 1 and First Revised Rate Schedule FERC Nos. 4 and 6. VEC states that the OATT charges produced by the formula rates are applicable to the new VEC-specific Local Service Schedule of the ISO New England Tariff, FERC Electric Tariff No. 3, as well as the subsequent Local Service Schedule that may be filed with the Commission in the future.

VEC states that a copy of this filing is being served on each of the customers under the OATT and Rate Schedule FERC Nos. 4 and 6, the Vermont Public Service Board and the Vermont Department of Public Service.

Comment Date: 5 p.m. eastern time on March 23, 2005.

14. FirstEnergy Service Company

[Docket No. ER05-671-000]

Take notice that on March 2, 2005, FirstEnergy Service Company (FirstEnergy) Tendered for filing a Notice of Cancellation of a Generator Interconnection and Operating Agreement between FirstEnergy Nuclear Operating Company and American Transmission Systems, Incorporated (ATSI), designated as Service Agreement No. 290 under ATSI's FERC Electric Tariff, Second Revised Volume No. 1. ATSI requests an effective date of January 1, 2005.

FirstEnergy states that a copy of the filing was served upon the parties to the Service Agreement No. 290.

Comment Date: 5 p.m. eastern time on March 23, 2005.

15. PacifiCorp

[Docket No. ER05-674-000]

Take notice that on March 2, 2005, PacifiCorp tendered for filing the February 18, 2005, Joint Operating Agreement between PacifiCorp and Utah Associated Municipal Power Systems (UAMPS).

PacifiCorp states that copies of this filing were supplied to the Public Utility Commission of Oregon, the Washington Utilities and Transportation Commission, and UAMPS.

Comment Date: 5 p.m. eastern time on March 23, 2005.

16. Black Hills Power, Inc.

[Docket No. RT01-50-001]

Take notice that on March 1, 2005, Black Hills Power, Inc., pursuant to the Commission's letter order issued February 8, 2005, submitted a report on its recent and current efforts with respect to regional transmission organizations.

Comment Date: 5 p.m. eastern time on March 22, 2005.

17. First Electric Cooperative Corporation

[Docket No. RT01-59-001]

Take notice that on March 1, 2005, First Electric Cooperative Corporation, pursuant to the Commission's letter order issued February 8, 2005, submitted a report on its recent and current efforts with respect to regional transmission organizations.

Comment Date: 5 p.m. eastern time on March 22, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1136 Filed 3-15-05; 8:45 am]

BILLING CODE 6717-01-P